DEPARTMENT OF HEALTH AND HUMAN SERVICES

Announcement of Requirements and Registration for Leading Health Indicators App Challenge

AGENCY: Department of Health and Human Services, Office of the Secretary, Office of the Assistant Secretary for Health, Office of Disease Prevention and Health Promotion.

ACTION: Notice.

Authority: 15 U.S.C. 3719.

SUMMARY: October 31, 2011 marks the national release of the Healthy People 2020 leading health indicators (LHIs). The LHIs were developed to communicate high-priority health issues to the public, and actions that can be taken to address them. The Office of Disease Prevention and Health Promotion, in partnership with Health 2.0 and the Office of the National Coordinator of Health IT, is launching an LHI App Challenge to encourage teams of developers and health professionals to build an application that addresses one or more LHI topics on a community level. The overall purpose of the Challenge is to provide public health practitioners, business, elected officials, clinicians and the public with applications to help achieve national priority health goals.

DATES: Effective on October 31, 2011. Important dates include the following:

October 31, 2011: Announcement of the LHI App Challenge at the 139th Annual APHA Meeting.

March 16, 2012: Deadline for Submissions.

April 10, 2012: Winners will be announced during the 2012 Health Promotion Summit in Washington, DC.

ADDRESSES: Registration opens on challenge.gov and http://www:health2challenge.org.

FOR FURTHER INFORMATION CONTACT: Silje Lier, MPH, Communication and eHealth Service Fellow, Office of Disease Prevention and Health Promotion, Silje.Lier@hhs.gov, 240-453-6113.

SUPPLEMENTARY INFORMATION: Subject of Challenge Competition: Leading Health Indicators App Challenge.

Eligibility Rules for Participating in the Competition:

To be eligible to win a prize under this challenge, an individual or entity—

(1) Shall have registered to participate in the competition under the rules promulgated by HHS;

(2) Shall have complied with all the requirements under this section;

(3) In the case of a private entity, shall be incorporated in and maintain a primary place of business in the United States, and in the case of an individual, whether participating singly or in a group, shall be a citizen or permanent resident of the United States; and

(4) May not be a Federal entity or Federal employee acting within the scope of their employment.

(5) Shall not be an HHS employee working on their applications or submissions during assigned duty hours.

(6) Shall not be in the reporting chain of Dr. Howard Koh in the Office of the Assistant Secretary for Health.

(7) Federal grantees may not use Federal funds to develop COMPETES Act challenge applications unless consistent with the purpose of their grant award.

(8) Federal contractors may not use Federal funds from a contract to develop COMPETES Act challenge applications or to fund efforts in support of a COMPETES Act challenge submission.

An individual or entity shall not be deemed ineligible because the individual or entity used Federal facilities or consulted with Federal employees during a competition if the facilities and employees are made available to all individuals and entities participating in the competition on an equitable basis.

Challenge participants will be expected to sign a liability release as part of the contest registration process. The liability release will use the following language:

By participating in this competition, I agree to assume any and all risks and waive claims against the Federal Government and its related entities, except in the case of willful misconduct, for any injury, death, damage, or loss of property, revenue, or profits, whether direct, indirect, or consequential, arising from my participation in this prize contest, whether the injury, death, damage, or loss arises through negligence or otherwise.

Registration Process for Participants:

Participants can register for the Challenge by visiting http://www.health2challenge.org or http://www.challenge.gov. Registration will be open from October 31, 2011 to March 15, 2012.

Amount of the Prize:

Challenge winners will be provided monetary cash prizes, totaling $15,000. The first place winner will receive $10,000. The second place winner will receive $3,000. And the third place winner will receive $2,000. Winners will be invited to demonstrate their apps at the 2012 Health Promotion Summit in Washington, DC.

Basis Upon Which Winner Will be Selected:

Challenge submissions will be reviewed by a panel of judges with relevant expertise in health IT and in Healthy People 2020. Winners will be selected based on the following criteria:

(1) Easy Access and Navigation.

(2) Platform Neutrality.

(3) User Appeal.

(4) Innovative Design.

(5) Broad Applicability.

(6) Integration of Health Data.

(7) Evidence of Co-Design and Collaboration.

Judges will also award bonus points to submissions that align with Section 508 of the Rehabilitation Act of 1973, and ones that incorporate plain language and health literacy principles.

Award Approving Official: Carter Blakey, Acting Director, Office of Disease Prevention and Health Promotion.

Additional Information: The Healthy People Web site, http://www.HealthyPeople.gov, contains objectives, targets, and baseline data for all of the Healthy People 2020 topic areas. From healthypeople.gov, challenge participants will also be able to access the corresponding leading health indicators from the HHS Health Indicators Warehouse.

Dated: October 18, 2011.
Carter Blakey,
Acting Director, Office of Disease Prevention and Health Promotion.

[FR Doc. 2011-27681 Filed 10-25-11; 8:45 am]

BILLING CODE 4150-32-P